Presidential Determination No. 2010-15 of September 10, 2010—Presidential Determination with Respect to Foreign Governments' Efforts Regarding Trafficking in Persons

Correction

In Presidential document 2010-27674 beginning on page 67017 in the issue of Monday, November 1, 2010, make the following correction:

On page 67017, the Presidential Determination number should read “2010-15”

[FR Doc. C1-2010-27674

Filed 11-5-10; 8:45 am]

Billing Code 1505-01-D